DEPARTMENT OF HEALTH AND HUMAN SERVICES

National Institutes of Health

Center for Scientific Review; Amended Notice of Meeting

Notice is hereby given of a change in the meeting of the Center for Scientific Review Special Emphasis Panel, November 04, 2020, 09:00 a.m. to November 05, 2020, 02:00 p.m., National Institutes of Health, Rockledge II, 6701 Rockledge Drive, Bethesda, MD 20892 which was published in the Federal Register on October 06, 2020, 85 FR Page 63123.

The meeting is scheduled for 11/04/2020 starting at 9:00 a.m. and ending on 11/05/2020 at 2:00 p.m. The meeting location remains the same. The meeting is closed to the public.

Dated: October 13, 2020.
Miguelina Perez,
Program Analyst, Office of Federal Advisory Committee Policy.

[FR Doc. 2020-23044 Filed 10-16-20; 8:45 am]

BILLING CODE P